DEPARTMENT OF ENERGY

Federal Energy Regulatory Commission

[ Project No. 2145-060]

Rocky Reach Hydroelectric Project; Notice of Availability of the Final Environmental Impact Statement for the Rocky Reach Project

August 4, 2006.

In accordance with the National Environmental Policy Act of 1969 and the Federal Energy Regulatory Commission (Commission or FERC) regulations contained in the Code of Federal Regulations (CFR) (18 CFR Part 380 [FERC Order No. 486, 52 FR 47897]), the Office of Energy Projects staff (staff) has reviewed the application for a New Major License for the Rocky Reach Project (FERC No. 2145-060), located on the Columbia River in Chelan County, Washington, and has prepared a Final Environmental Impact Statement (final EIS) for the project. The project occupies about 152 acres of Federal lands managed by the U.S. Bureau of Land Management and the U.S. Forest Service.

The final EIS contains staff's analysis of the applicant's proposal and the alternatives for relicensing the Rocky Reach Project. The final EIS documents the views of the Commission staff and of government agencies, non-government organizations, affected Indian tribes, the public, and the license applicant.

A copy of the final EIS is available for review in the Commission Public Reference Branch, Room 2A, located at 888 First Street, NE., Washington, DC 20426. The final EIS may also be viewed on the Commission's Web site at http://www.ferc.gov under the eLibrary link. Enter docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support. For further information, please contact Kim A. Nguyen at (202) 502-6105 or at kim.nguyen@ferc.gov.

Magalie R. Salas,
Secretary.

[FR Doc. E6-13141 Filed 8-10-06; 8:45 am]

BILLING CODE 6717-01-P